DEPARTMENT OF ENERGY

Federal Energy Regulatory Commission

[Project No. 15255-000]

Oquirrh Energy Storage, LLC; Notice of Effectiveness of Withdrawal of Preliminary Permit Application

On January 25, 2022, Oquirrh Energy Storage filed a preliminary permit application pursuant to section 4(f) of the Federal Power Act, proposing to study the feasibility of the Oquirrh Pumped Storage Project No. 15255 (Oquirrh Project). On June 25, 2024, Oquirrh Energy Storage filed a notice of withdrawal of its application.

No motion in opposition to the notice of withdrawal has been filed, and the Commission has taken no action to disallow the withdrawal. Pursuant to Rule 216(b) of the Commission's Rules of Practice and Procedure,¹ the withdrawal of the application will be effective on July 10, 2024, and this proceeding is hereby terminated.

¹ 18 CFR 385.216(b) (2023).

Dated: June 26, 2024.
Debbie-Anne A. Reese,
Acting Secretary.

[FR Doc. 2024-14589 Filed 7-2-24; 8:45 am]

BILLING CODE 6717-01-P